DEPARTMENT OF COMMERCE

International Trade Administration

[C-533-842, C-549-824]

Postponement of Preliminary Countervailing Duty Determinations: Bottle-Grade Polyethylene Terephthalate Resin from India and Thailand

AGENCY: Import Administration, International Trade Administration, Department of Commerce.

SUMMARY: The Department of Commerce is extending the time limit for the preliminary determinations in the countervailing duty investigations of Bottle-Grade Polyethylene Terephthalate Resin (“BG PET Resin”) from India and Thailand from June 17, 2004, until no later than August 21, 2004. This extension is made pursuant to section 703(c)(1)(A) of the Tariff Act of 1930, as amended (the Act).

EFFECTIVE DATE: June 3, 2004.

FOR FURTHER INFORMATION CONTACT: Douglas Kirby or Sean Carey, Office of AD/CVD Enforcement 7, Import Administration, International Trade Administration, U.S. Department of Commerce, 14th Street and Constitution Avenue, NW., Washington DC 20230; telephone (202) 482-3782 or (202) 482-1394, respectively.

Postponement of Preliminary Determination:

On April 13, 2004, the Department initiated the countervailing duty investigations of BG PET Resin from India and Thailand. See Notice of Initiation of Countervailing Duty Investigations: Bottle-Grade Polyethylene Terephthalate Resin from India and Thailand, 69 FR 21086 (April 20, 2004). On May 21, 2004, the United States PET Resin Producers Coalition (“petitioners”) made a timely request pursuant to 19 CFR 351.205(e) for the postponement of the preliminary determinations in accordance with section 703(c)(1) of the Act. Petitioners requested a postponement in order to allow time for the Department to conduct full and complete investigations of the programs set forth in the notice of initiation.

Because the Department finds no compelling reason to deny petitioners' request, we are postponing the time limit for the preliminary determinations in the countervailing duty investigations of BG PET Resin from India and Thailand until no later than August 21, 2004. Because August 21, 2004, is a Saturday, the actual due date for these preliminary determinations will be Monday, August 23, 2004. This extension is made pursuant to section 703(c)(1)(A) of the Act.

This notice of postponement is published pursuant to section 703(c)(2) of the Act.

Dated: May 26, 2004.
James J. Jochum,
Assistant Secretary for Import Administration.

[FR Doc. 04-12601 Filed 6-2-04; 8:45 am]

BILLING CODE 3510-DS-S